DEPARTMENT OF ENERGY

Federal Energy Regulatory Commission

[Docket No. ER01-2262-002, et al.]

Frederickson Power L.P., et al.; Electric Rate and Corporate Regulation Filings

March 7, 2002.

Take notice that the following filings have been made with the Commission. Any comments should be submitted in accordance with Standard Paragraph E at the end of this notice.

1. Frederickson Power L.P.

[Docket No. ER01-2262-002]

Take notice that on February 28, 2002, Frederickson Power L.P. (Frederickson Power) filed a notice of change of status and a Code of Conduct respecting Frederickson Power's pending affiliation with Duke Energy Corporation.

Comment Date: March 21, 2002.

2. Midwest Independent Transmission System Operator, Inc.

[Docket No. ER02-1188-000]

Take notice that on March 1, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Ameren Energy, Inc.

A copy of this filing was sent to Ameren Energy, Inc.

Comment Date: March 22, 2002.

3. Midwest Independent Transmission System Operator, Inc.

[Docket No. ER02-1189-000]

Take notice that on March 1, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Constellation Power Source, Inc.

A copy of this filing was sent to Constellation Power Source, Inc.

Comment Date: March 22, 2002.

4. Midwest Independent Transmission System Operator, Inc.

[Docket No. ER02-1190-000]

Take notice that on March 1, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Consumers Energy Company d/b/a/ Consumers Energy Traders.

A copy of this filing was sent to Consumers Energy Company d/b/a/ Consumers Energy Traders.

Comment Date: March 22, 2002.

5. Midwest Independent Transmission System Operator, Inc.

[Docket No. ER02-1191-000]

Take notice that on March 1, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by DTE Energy Trading, Inc.

A copy of this filing was sent to DTE Energy Trading, Inc.

Comment Date: March 22, 2002.

6. Midwest Independent Transmission System Operator, Inc.

[Docket No. ER02-1192-000]

Take notice that on March 1, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Dynegy Energy Services, Inc.

A copy of this filing was sent to Dynegy Energy Services, Inc.

Comment Date: March 22, 2002.

7. Midwest Independent Transmission System Operator, Inc.

[Docket No. ER02-1193-000]

Take notice that on March 1, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by El Paso Merchant Energy, L.P.

A copy of this filing was sent to El Paso Merchant Energy, L.P.

Comment Date: March 22, 2002.

8. Midwest Independent Transmission System Operator, Inc.

[Docket No. ER02-1194-000]

Take notice that on March 1, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by enXco, Inc.

A copy of this filing was sent to enXco, Inc.

Comment Date: March 22, 2002.

9. Midwest Independent Transmission System Operator, Inc.

[Docket No. ER02-1195-000]

Take notice that on March 1, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Minnesota Power-MPEX.

A copy of this filing was sent to Minnesota Power-MPEX.

Comment Date: March 22, 2002.

10. Midwest Independent Transmission System Operator, Inc.

[Docket No. ER02-1196-000]

Take notice that on March 1, 2002, pursuant to section 205 of the Federal Power Act and section 35.13 of the Federal Energy Regulatory Commission's (Commission) regulations, 18 CFR 35.13, the Midwest Independent Transmission System Operator, Inc. (Midwest ISO) submitted for filing a Service Agreements for the transmission service requested by Mirant Americas Energy Marketing, LP.

A copy of this filing was sent to Mirant Americas Energy Marketing, LP.

Comment Date: March 22, 2002.

11. Midwest Independent Transmission System Operator, Inc.

[Docket No. ER02-1197-000]

Take notice that on March 1, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Rainbow Energy Marketing Corporation.

A copy of this filing was sent to Rainbow Energy Marketing Corporation.

Comment Date: March 22, 2002.

12. Cinergy Services, Inc.

[Docket No. ER02-1198-000]

Take notice that on March 1, 2002, Cinergy Services, Inc. (Cinergy) and Baltimore Gas and Electric Company are requesting a cancellation of Service Agreement No.4, under Cinergy Operating Companies, FERC Electric Cost-Based Power Sales Tariff, FERC Electric Tariff Original Volume No.6.

Cinergy requests an effective date of March 4, 2002.

Comment Date: March 22, 2002.

13. Cinergy Services, Inc.

[Docket No. ER02-1199-000]

Take notice that on March 1, 2002, Cinergy Services, Inc. (Cinergy) and Baltimore Gas and Electric Company are requesting a cancellation of Service Agreement No.4, under Cinergy Operating Companies, FERC Electric Cost-Based Power Sales Tariff, FERC Electric Tariff Original Volume No.7.

Cinergy requests an effective date of March 4, 2002.

14. Cinergy Services, Inc.

[Docket No. ER02-1200-000]

Take notice that on March 1, 2002, Cinergy Services, Inc. (Cinergy) and Baltimore Gas and Electric Company are requesting a cancellation of Service Agreement No.18, under Cinergy Operating Companies, FERC Electric Cost-Based Power Sales Tariff, FERC Electric Tariff Original Volume No.8.

Cinergy requests an effective date of March 4, 2002.

Comment Date: March 22, 2002.

15. Cinergy Services, Inc.

[Docket No. ER02-1201-000]

Take notice that on March 1, 2002, Cinergy Services, Inc. (Cinergy) and Baltimore Gas and Electric Company are requesting a cancellation of Service Agreement No.154, under Cinergy Operating Companies, FERC Electric Cost-Based Power Sales Tariff, FERC Electric Tariff Original Volume No.7.

Cinergy requests an effective date of March 4, 2002.

Comment Date: March 22, 2002.

16. Cinergy Services, Inc.

[Docket No. ER02-1202-000]

Take notice that on March 1, 2002, Cinergy Services, Inc. (Cinergy) and Baltimore Gas and Electric Company are requesting a cancellation of Service Agreement No.154, under Cinergy Operating Companies, FERC Electric Cost-Based Power Sales Tariff, FERC Electric Tariff Original Volume No.6.

Cinergy requests an effective date of March 4, 2002.

Comment Date: March 22, 2002.

17. Ameren Energy, Inc. on Behalf of Union Electric Company d/b/a AmerenUE and Ameren Energy Generating Company

[Docket No. ER02-1203-000]

Take notice that on March 1, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into Engage Energy America LLC. Ameren Energy seeks Commission acceptance of these service agreements effective January 1, 2002.

Copies of this filing were served on the public utilities commissions of Illinois and Missouri and the counterparty.

Comment Date: March 22, 2002.

18. Ameren Energy, Inc. on Behalf of Union Electric Company d/b/a AmerenUE and Ameren Energy Generating Company

[Docket No. ER02-1204-000]

Take notice that on March 1, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with Wisconsin Electric Power Company. Ameren Energy seeks Commission acceptance of these service agreements effective December 21, 2001.

Copies of this filing were served on the public utilities commissions of Illinois and Missouri and the counterparty.

Comment Date: March 22, 2002.

19. PJM Interconnection, L.L.C.

[Docket No. ER02-1205-000]

Take notice that on March 1, 2002, PJM Interconnection, L.L.C. (PJM), filed amendments to the PJM Open Access Transmission Tariff and the Amended and Restated PJM Operating Agreement to implement it Emergency Load Response Program on a permanent basis. Copies of this filing were served upon all PJM members and each state electric utility regulatory commission in the PJM region.

PJM requests an effective date of June 1, 2002 for the amendments.

Comment Date: March 22, 2002.

20. New England Power Pool

[Docket No. ER02-1206-000]

Take notice that on March 1, 2002, the New England Power Pool (NEPOOL) Participants Committee filed for acceptance materials (1) to permit NEPOOL to expand its membership to include Sprague Energy Corp. (Sprague); and (2) to terminate the memberships of Niagra Mohawk Energy Inc. (NIMO) and Amerada Hess Corporation (Hess). The Participants Committee requests an effective date of March 1, 2002 for commencement of participation in NEPOOL by Sprague and December 31, 2001 and February 1, 2002 for the terminations of NIMO and Hess, respectively.

The Participants Committee states that copies of these materials were sent to the New England state governors and regulatory commissions and the Participants in NEPOOL.

Comment Date: March 22, 2002.

21. New England Power Pool

[Docket No. ER02-1207-000]

Take notice that on March 1, 2001, the New England Power Pool (NEPOOL) Participants Committee tendered for filing a Service Agreement for Regional Network Service, including Network Integration Transmission Service pursuant to section 205 of the Federal Power Act and 18 CFR35.12 of the Commission's regulations. Acceptance of this Service Agreement will recognize the provision of Regional Network Service to Miller Hydro Group, in accordance with the provisions of the Restated NEPOOL Open Access Transmission Tariff, as amended and supplemented. An effective date of February 1, 2002 for commencement of transmission service has been requested.

Copies of this filing were sent to the NEPOOL Participants, the New England state governors and regulatory commissions, and all parties to the transaction.

Comment Date: March 22, 2002.

22. New England Power Company

[Docket No. ER02-1208-000]

Take notice that on March 1, 2002, New England Power Company (NEP) tendered for filing the Original Service Agreement No. 210 for Network Integration Transmission Service under NEP's Open Access Transmission Tariff, FERC Electric Tariff, Second Revised Volume No. 9 between NEP and Millennium Power Partners, L.P., the First Revised Service Agreement No. 109 for Network Integration Transmission Service under NEP's Open Access Transmission Tariff, FERC Electric Tariff, Second Revised Volume No. 9 between NEP and Massachusetts Electric Company and Nantucket Electric Company; the First Revised Service Agreement No. 108 for Network Integration Transmission Service under NEP's Open Access Transmission Tariff, FERC Electric Tariff, Second Revised Volume No. 9 between NEP and The Narragansett Electric Company; and the First Revised Service Agreement No. 116 for Network Integration Transmission Service under NEP's Open Access Transmission Tariff, FERC Electric Tariff, Second Revised Volume No. 9 between NEP and USGen New England, Inc. (USGen).

NEP states that this filing has been served upon USGen and regulators in the Commonwealth of Massachusetts and the State of Rhode Island.

Comment Date: March 22, 2002.

23. American Electric Power Service Corporation

[Docket No. ER02-1209-000]

Take notice that on March 1, 2002, Central Power and Light Company (CPL) and American Electric Power Service Corporation (AEPSC), as designated agent for Central Power and Light Company, submitted for filing (1) a service agreement (the OATT Service Agreement) under which Pedernales Electric Cooperative, Inc. (Pedernales) will take transmission service pursuant to Part IV of the Open Access Transmission Tariff of the American Electric Power System (AEP OATT); and (2) an Interconnection Agreement (IA) between CPL and Pedernales, implementing new arrangements attendant to converting the former Pedernales Points of Delivery on CPL to Points of Interconnection with CPL.

CPL and AEPSC seek an effective date of February 1, 2002 for the two agreements and, accordingly, seek waiver of the Commission's notice requirements. Copies of the filing have been served on Pedernales and on the Public Utility Commission of Texas.

Comment Date: March 22, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6100 Filed 3-13-02; 8:45 am]

BILLING CODE 6717-01-P